ENVIRONMENTAL PROTECTION AGENCY

[EPA-HQ-OPP-2006-0465; FRL-8069-9]

The Association of American Pesticide Control Officials (AAPCO)/State-FIFRA Issues Research and Evaluation Group (SFIREG); Notice of Public Meeting

AGENCY: Environmental Protection Agency (EPA).

ACTION: Notice.

SUMMARY: The Association of American Pesticide Control Officials (AAPCO)/State-FIFRA Issues Research and Evaluation Group (SFIREG) will hold a 2-day meeting, beginning on June 19, 2006 and ending June 20, 2006. This notice announces the location and times for the meeting and sets forth the tentative agenda topics.

DATES: The meeting will be held on June 19 from 9 a.m. to 5 p.m. and June 20, 2006 from 9 a.m. to 12 noon.

FOR FURTHER INFORMATION CONTACT: Georgia McDuffie, Field and External Affairs Division (7506P), Office of Pesticide Programs, Environmental Protection Agency, 1200 Pennsylvania Ave., NW., Washington, DC 20460-0001; telephone number: (703) 605-0195; fax number: (703) 308-1850; e-mail address: mcduffie.georgia@epa.gov or Philip H. Gray, SFIREG Executive Secretary, P.O. Box 1249, Hardwick, VT 05843-1249; telephone number (802) 472-6956; fax: (802) 472-6957; e-mail address: aapco@plainfield.bypass.com.

SUPPLEMENTARY INFORMATION:

I. General Information

A. Does this Action Apply to Me?

You may be potentially affected by this action if you all parties interested in SFIREG information exchange relationship with EPA regarding important issues related to human health, environmental exposure to pesticides and insight into EPA's decision-making process are invited and encourage to attend the meetings and participate as appropriate Potentially affected entities may include, but are not limited to:

This action is directed to the public in general, and may be of particular interest to those persons who are or may be required to conduct testing of chemical substances under the Federal Food Drug and Cosmetic Act (FFDCA), or the Federal Insecticide, Fungicide, and Rondenticide Act (FIFRA).

B. How Can I Get Copies of this Document and Other Related Information?

1. Docket. EPA has established a docket for this action under docket identification (ID) number EPA-HQ-OPPT-2006-0465. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

C. Tentative Agenda

1. Container Recycling Rule Making Discussion

2. WPS proposed Changes

3. Unique Label Identifiers - RAPID

4. Endangered Species Enforcement Concerns

5. NPDES - Pesticides in Water Discussion on Rule

6. Availability of Laboratory Methods to States

7. Budget, General Discussion and C & T Funding

8. EPA Update/Briefing:

a. Office of Pesticide Program Update

b. Office of Enforcement Compliance Assurance Update

List of Subjects

Environmental protection.

Dated: May 16, 2006.
William R. Diamond,
Director, Field External Affairs Division, Office of Pesticide Programs

FR Doc. E6-7931 Filed 5-23-06; 8:45 am

BILLING CODE 6560-50-S